DEPARTMENT OF COMMERCE

National Oceanic and Atmospheric Administration

[RTID 0648-XC563]

Marine Mammals; File No. 24334

AGENCY: National Marine Fisheries Service (NMFS), National Oceanic and Atmospheric Administration (NOAA), Commerce.

ACTION: Notice; receipt of application for permit amendment.

SUMMARY: Notice is hereby given that the Alaska Department of Fish and Game, P.O. Box 25526, Juneau, AK 99802, (Responsible Party: Lori Quakenbush), has applied for an amendment to Scientific Research Permit No. 24334.

DATES: Written, telefaxed, or email comments must be received on or before December 22, 2022.

ADDRESSES: The application and related documents are available for review by selecting “Records Open for Public Comment” from the “Features” box on the Applications and Permits for Protected Species (APPS) home page, https://apps.nmfs.noaa.gov, and then selecting File No. 24334 mod 1 from the list of available applications. These documents are also available upon written request via email to NMFS.Pr1Comments@noaa.gov.

Written comments on this application should be submitted via email to NMFS.Pr1Comments@noaa.gov. Please include File No. 24334 in the subject line of the email comment.

Those individuals requesting a public hearing should submit a written request via email to NMFS.Pr1Comments@noaa.gov. The request should set forth the specific reasons why a hearing on this application would be appropriate.

FOR FURTHER INFORMATION CONTACT: Amy Hapeman or Sara Young, (301) 427-8401.

SUPPLEMENTARY INFORMATION: The subject amendment to Permit No. 24334 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Permit No. 24334, issued on July 13, 2021 (86 FR 43630, August 10, 2021), authorizes the permit holder to conduct research on five whale species in the Bering, Chukchi, and Beaufort seas (U.S. and international waters) adjacent to Alaska. Researchers may conduct vessel surveys for tagging (invasive tags or suction cup tags), biopsy sampling, photo-identification, and unmanned aircraft system (UAS) surveys for all species. Researchers also may conduct manned aerial surveys and captures for tagging with biological sample collection of four beluga whale (Delphinapterus leucas) stocks and export and import of skin and blubber for the target species. Non-target seals and beluga whales may be unintentionally harassed, and seals may be incidentally captured during research activities. Up to three unintentional beluga mortalities may occur during captures over the duration of the permit.

The permit holder is requesting the permit be amended to authorize the annual receipt, collection, import, or export of parts from up to 300 beluga whales and up to 50 other unidentified cetaceans (any species). Sources of foreign and domestic samples may include subsistence harvests, captive animals, other authorized researchers or curated collections, bycatch from legal commercial fishing operations, cetaceans killed by killer whales, parts that are sloughed, excreted or discharged naturally by living cetaceans, and foreign stranded animals. No take or harassment of live animals would be authorized. The amendment would be valid for the duration of the permit, which is set to expire on April 30, 2026.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Julia M. Harrison,
Chief, Permits and Conservation Division, Office of Protected Resources, National Marine Fisheries Service.

[FR Doc. 2022-25430 Filed 11-21-22; 8:45 am]

BILLING CODE 3510-22-P